DEPARTMENT OF TRANSPORTATION

Federal Aviation Administration

14 CFR Part 39

[Docket No. FAA-2005-22456; Directorate Identifier 2005-NM-128-AD]

RIN 2120-AA64

Airworthiness Directives; Airbus Model A321-100 and -200 Series Airplanes

AGENCY: Federal Aviation Administration (FAA), Department of Transportation (DOT).

ACTION: Notice of proposed rulemaking (NPRM).

SUMMARY: The FAA proposes to adopt a new airworthiness directive (AD) for certain Airbus Model A321-100 and -200 series airplanes. This proposed AD would require replacing the crashworthiness pins on the side-stay of the main landing gear (MLG) with new pins having an increased internal notch diameter. This proposed AD results from testing on the side-stay crashworthiness pins on the MLG, which revealed that, in the case of an emergency landing, the crashworthiness pins installed will not ensure a correct MLG collapse. We are proposing this AD to prevent a punctured fuel tank, which could cause damage to the airplane or injury to passengers.

DATES: We must receive comments on this proposed AD by October 19, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

For service information identified in this proposed AD, contact Airbus, 1 Rond Point Maurice Bellonte, 31707 Blagnac Cedex, France.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

We invite you to submit any relevant written data, views, or arguments regarding this proposed AD. Send your comments to an address listed in the ADDRESSES section. Include the docket number “FAA-2005-22456; Directorate Identifier 2005-NM-128-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Direction Générale de l'Aviation Civile (DGAC), which is the airworthiness authority for France, notified us that an unsafe condition may exist on certain Airbus Model A321-100 and -200 series airplanes. The DGAC advises that, during the development qualification program of the 93T maximum takeoff weight (MTOW), complementary tests performed revealed that the main landing gear (MLG) side-stay crashworthiness pins installed with Airbus Modification 24982 are not compatible. In the case of an emergency landing, the crashworthiness pins installed will not ensure a correct MLG collapse, and a risk of fuel tank puncture that could cause damage to the airplane or injury to passengers could result.

Relevant Service Information

Airbus has issued Service Bulletin A320-32-1229, dated August 9, 2001. The service bulletin describes procedures for replacing the crashworthiness pin on the MLG side-stay with a new pin having an increased internal notch diameter. Accomplishing the actions specified in the service information is intended to adequately address the unsafe condition. The DGAC mandated the service information and issued French airworthiness directive 2002-074(B) R1, dated March 20, 2002, to ensure the continued airworthiness of these airplanes in France.

The Airbus service bulletin refers to Messier-Dowty Service Bulletin 201-32-26, dated July 20, 2001, as an additional source of service information for replacing the crashworthiness pins.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for airplanes of this type design that are certificated for operation in the United States.

Therefore, we are proposing this AD, which would require accomplishing the actions specified in the service information described previously, except as discussed below.

Difference Between Proposed AD and French Airworthiness Directive

The applicability of the French airworthiness directive excludes airplanes on which Airbus Service Bulletin A320-32-1229 was accomplished in service. However, we have not excluded those airplanes in the applicability of this proposed AD; rather, this proposed AD would include a requirement to accomplish the actions specified in that service bulletin. This proposed requirement would ensure that the actions specified in the service bulletin are accomplished on all affected airplanes. Operators must continue to operate the airplane in the configuration required by this proposed AD unless an alternative method of compliance is approved.

Costs of Compliance

The following table provides the estimated costs for U.S. operators to comply with this proposed AD.

Estimated Costs
Action | Work hours | Average labor rate per hour | Parts | Cost per airplane | Number of U.S.-registered airplanes | Fleet cost
Pin replacement | 2 | $65 | $0 | $130 | 1 | $130

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in Subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2005-22456; Directorate Identifier 2005-NM-128-AD.

Comments Due Date

(a) The FAA must receive comments on this AD action by October 19, 2005.

Affected ADs

(b) None.

Applicability

(c) This AD applies to Airbus Model A321-111, -112, and -131 airplanes; and Model A321-211 and -231 airplanes; certificated in any category, including airplanes modified in production by Airbus Modification 24982, but excluding airplanes modified in production by Airbus Modification 30046.

Unsafe Condition

(d) This AD results from testing on the side-stay crashworthiness pins on the main landing gear (MLG), which revealed that, in the case of an emergency landing, the crashworthiness pins installed will not ensure a correct MLG collapse. We are issuing this AD to prevent a punctured fuel tank, which could cause damage to the airplane or injury to passengers.

Compliance

(e) You are responsible for having the actions required by this AD performed within the compliance times specified, unless the actions have already been done.

Pin Replacement

(f) Within 27 months after the effective date of this AD, replace any crashworthiness pin having part number 201525620 with part number 201525621, in accordance with the Accomplishment Instructions of Airbus Service Bulletin A320-32-1229, dated August 9, 2001.

Note 1: Airbus Service Bulletin A320-32-1229 refers to Messier-Dowty Service Bulletin 201-32-26, dated July 20, 2001, as an additional source of service information for replacing the crashworthiness pins.

Alternative Methods of Compliance (AMOCs)

(g) The Manager, International Branch, ANM-116, Transport Airplane Directorate, FAA, has the authority to approve AMOCs for this AD, if requested in accordance with the procedures found in 14 CFR 39.19.

Related Information

(h) French airworthiness directive 2002-074(B) R1, dated March 20, 2002, also addresses the subject of this AD.

Issued in Renton, Washington, on September 9, 2005.
Kalene C. Yanamura,
Acting Manager, Transport Airplane Directorate, Aircraft Certification Service.

[FR Doc. 05-18529 Filed 9-16-05; 8:45 am]

BILLING CODE 4910-13-P